DEPARTMENT OF HEALTH AND HUMAN SERVICES

Food and Drug Administration

21 CFR Parts 11 and 101

[Docket No. FDA-2011-F-0172]

RIN 0910-ZA48

Food Labeling; Nutrition Labeling of Standard Menu Items in Restaurants and Similar Retail Food Establishments; Extension of Comment Period; Correction

AGENCY: Food and Drug Administration, HHS.

ACTION: Interim final rule; correction.

SUMMARY: The Food and Drug Administration is correcting a document entitled “Food Labeling; Nutrition Labeling of Standard Menu Items in Restaurants and Similar Retail Food Establishments; Extension of Comment Period” that appeared in the Federal Register of July 3, 2017. The document extended the comment period for the interim final rule that appeared in the Federal Register of May 4, 2017. The document was published with an incorrect RIN number. This document corrects that error.

DATES: Effective July 25, 2017.

FOR FURTHER INFORMATION CONTACT: Lisa Granger, Office of Policy, Food and Drug Administration, 10903 New Hampshire Ave., Bldg. 32, Rm. 3330, Silver Spring, MD 20993-0002, 301-796-9115.

SUPPLEMENTARY INFORMATION: In the Federal Register of Monday, July 3, 2017, in FR Doc. 2017-13889, on page 30730, the following correction is made:

1. On page 30730, in the third column, in the headings section at the beginning of the document, the RIN number is corrected to read “RIN 0910-ZA48”.

Dated: July 19, 2017.
Anna K. Abram,
Deputy Commissioner for Policy, Planning, Legislation, and Analysis.

[FR Doc. 2017-15538 Filed 7-24-17; 8:45 am]

BILLING CODE 4164-01-P